DEPARTMENT OF HOMELAND SECURITY

Coast Guard

[Docket No. USCG-2024-0236]

Cooperative Research and Development Agreement: pLEO Satellite Systems for at Sea Global Coverage Including High Latitudes

AGENCY: Coast Guard, DHS.

ACTION: Notice of intent; request for comments.

SUMMARY: The Coast Guard is announcing its intent to enter into a Cooperative Research and Development Agreement (CRADA) with Hughes Network Systems to build a Proof of Concept (POC) to understand the capabilities, benefits, risks, technical limitations, and performance associated with operating a proliferated low earth orbiting (pLEO) satellite system on Coast Guard ships at sea. The pLEO satellite system provides global broadband coverage, to include the extreme northern and southern latitudes, which have traditionally been limited to geostationary satellites. While the Coast Guard is currently considering partnering with Hughes Network Systems, we are soliciting public comment on the possible nature of and participation of other parties in the proposed CRADA. In addition, the Coast Guard also invites other potential non-Federal participants, who have the interest and capability to bring similar contributions to this type of research, to consider submitting proposals for consideration in similar CRADAs.

DATES: Comments must be submitted to the online docket via http://www.regulations.gov on or before May 17, 2024.

Synopses of proposals regarding future CRADAs must reach the Coast Guard (see FOR FURTHER INFORMATION CONTACT) on or before May 17, 2024.

ADDRESSES: Submit comments online at http://www.regulations.gov by searching the docket number USCG-2024-0236 and following website instructions.

FOR FURTHER INFORMATION CONTACT: If you have questions on this notice or wish to submit proposals for future CRADAs, contact Jon Turban, P.E., Project Manager, IT and Networks Branch, U.S. Coast Guard Research and Development Center, 1 Chelsea Street, New London, CT 06320, telephone 860-271-2600, email RDC-info@uscg.mil.

SUPPLEMENTARY INFORMATION:

Public Participation and Request for Comments

We request public comments on this notice. Although we do not plan to respond to comments in the Federal Register, we will respond directly to commenters and may modify our proposal in response to received comments.

Comments should be marked with docket number USCG-2024-0236 and should provide a reason for each suggestion or recommendation. You should provide personal contact information so that we can contact you if we have questions regarding your comments; please note that all comments will be posted to the online docket without change and that any personal information you include can be searchable online (see DHS's eRulemaking System of Records notice, 85 FR 14226, March 11, 2020). We also accept anonymous comments.

We encourage you to submit comments through the Federal eRulemaking Portal at http://www.regulations.gov. If your material cannot be submitted using http://www.regulations.gov, contact the Coast Guard (see FOR FURTHER INFORMATION CONTACT). Documents mentioned in this notice and all public comments are in our online docket at http://www.regulations.gov and can be viewed by following the website's instructions.

Discussion

CRADAs are authorized under 15 U.S.C. 3710a.¹ A CRADA promotes the transfer of technology to the private sector for commercial use, as well as specified research or development efforts that are consistent with the mission of the Federal parties to the CRADA. The Federal party or parties agree with one or more non-Federal parties to share research resources, but the Federal party does not contribute funding.

¹ The statute confers this authority on the head of each Federal agency. The Secretary of DHS's authority is delegated to the Coast Guard and other DHS organizational elements by DHS Delegation No. 0160.1, para. II.B.34.

CRADAs are not procurement contracts. Care is taken to ensure that CRADAs are not used to circumvent the contracting process. CRADAs have a specific purpose and should not be confused with procurement contracts, grants, and other type of agreements.

Under the proposed CRADA, the U.S. Coast Guard Research and Development Center (R&D Center) will collaborate with one non-Federal participant. Together, the R&D Center and the non-Federal participant will build a POC to understand the capabilities, benefits, risks, technical limitations, and performance of operating a pLEO satellite system on Coast Guard ships at sea. The pLEO satellite system provides global broadband coverage, to include the extreme northern and southern latitudes, which have traditionally been limited to geostationary satellites.

We anticipate that the Coast Guard's contributions under the proposed CRADA will include the following:

(1) Provide staff with the expertise to support the tasks.

(2) Provide resources and travel for the Coast Guard staff that support this CRADA.

(3) Write a test plan in collaboration with the non-Federal participant.

(4) Obtain approvals for installation.

(5) Obtain authorization to connect to the network.

(6) Ship the necessary parts, tools, and equipment to the Coast Guard Cutter.

(7) Coordinate logistics with the Coast Guard Cutter for the installation of equipment onboard the ship.

(8) Coordinate operation of equipment with the Coast Guard Cutter while the ship is underway.

(9) Provide resources required to conduct underway testing on the Coast Guard Cutter

(10) Execute agreed upon test plan.

(11) Write a report in collaboration with the non-Federal participant.

We anticipate that the non-Federal participants' contributions under the proposed CRADA will include the following:

(1) Provide staff with the expertise to support the tasks.

(2) Provide resources and travel for own staff in support of this CRADA.

(3) Write a test plan in collaboration with the R&D Center.

(4) Provide non-Federal participants' shipboard equipment and airtime for the equipment.

(5) Provide the technical data for all equipment, including dimensions, weight, power requirements, and other technical considerations for non-Federal participants' components to be utilized under this CRADA.

(6) Assist with the installation of equipment on the Coast Guard Cutter

(7) Provide technical support.

(8) Provide any specific training to those Coast Guard members evaluating the technology.

(9) Provide mutually agreed upon resources required to conduct the underway testing on the Coast Guard Cutter.

(10) Write a report in collaboration with the R&D Center.

The Coast Guard reserves the right to select for CRADA participants all, some, or no proposals submitted for this CRADA. The Coast Guard will provide no funding for reimbursement of proposal development costs. Proposals and any other material submitted in response to this notice will not be returned. Proposals submitted are expected to be unclassified and have not more than five single-sided pages (excluding cover page, DD 1494, JF-12, etc.). The Coast Guard will select proposals at its sole discretion based on:

(1) How well they communicate an understanding of, and ability to meet, the proposed CRADA's goals; and

(2) How well they address the following criteria:

(a) Technical capability to support the non-Federal party contributions described, and

(b) Resources available for supporting the non-Federal party contributions described.

Currently, the Coast Guard is considering Hughes Network Systems for participation in this CRADA. This consideration is because Hughes Network Systems operates a pLEO satellite system that provides at-sea global coverage including coverage of the extreme latitudes. However, we do not wish to exclude other viable participants from this or future similar CRADAs.

This is a technology assessment effort. The goal for this CRADA is to work with an industry partner to explore alternate methods and applications for pLEO/MEO satellite communications in the maritime environment at the most extreme northern and southern latitudes. This could include:

—robust global underway network connectivity for its' ships

—a positioning, navigation and timing (PNT) source in a GPS denied environment.

—a maritime distress communication system.

—network connectivity to unmanned mobile platforms.

—tactical network connectivity for use by Coast Guard boarding teams.

—multi-orbit satellite systems.

Special consideration will be given to small business firms or consortia, and preference will be given to business units located in the U.S. This notice is issued under the authority of 5 U.S.C. 552(a).

Dated: April 12, 2024.
Bert Macesker,
Executive Director, U.S. Coast Guard Research and Development Center.

[FR Doc. 2024-08143 Filed 4-16-24; 8:45 am]

BILLING CODE 9110-04-P